GENERAL SERVICES ADMINISTRATION

[GSA Bulletin FTR 12-06; Docket 2012-0004; Sequence 2]

Privately Owned Vehicle Mileage Reimbursement Rates

AGENCY: Office of Governmentwide Policy (OGP), General Services Administration (GSA).

ACTION: Notice of FTR Bulletin 12-06, Adjusted Calendar Year (CY) 2012 Privately Owned Vehicle Mileage Reimbursement Rates.

SUMMARY: The General Services Administration's (GSA) special review of privately owned vehicle (POV) mileage reimbursement rates has resulted in adjusting the CY 2012 rates for the use of privately owned automobiles (POA), POAs when Government owned automobiles (GOA) are authorized, privately owned motorcycles, and privately owned airplanes. FTR Bulletin 12-06 establishes these adjusted CY 2012 mileage reimbursement rates ($0.555 for POAs, $0.23 for POAs when a GOA is authorized, $0.525 for privately owned motorcycles, and $1.31 for privately owned airplanes) pursuant to the process discussed below. This notice of subject bulletin is the only notification of revisions to the POV rates to agencies other than the changes posted on the GSA Web site. GSA determined these rates by studying various factors; such as the cost of fuel, the depreciation of the original vehicles costs, maintenance and insurance.

DATES: This notice is effective the date of publication in the Federal Register.

FOR FURTHER INFORMATION CONTACT: For clarification of content, please contact Mr. Cy Greenidge, OGP, Office of Asset and Transportation Management, at (202) 219-2349, or by email at travelpolicy@gsa.gov. Please cite Notice of FTR Bulletin 12-06.

SUPPLEMENTARY INFORMATION:

Change in standard procedure

GSA posts the POV mileage reimbursement rates, formerly published in 41 CFR Chapter 301, solely on the Internet at www.gsa.gov/ftr. This process, implemented in FTR Amendment 2010-07 (75 FR 72965, Nov. 29, 2010), ensures more timely updates in mileage reimbursement rates by GSA for Federal employees on official travel. Notices published periodically in the Federal Register, such as this one, and the changes posted on the GSA Web site, now constitute the only notification of revisions to privately owned vehicle reimbursement rates for Federal agencies.

Dated: April 11, 2012.
Janet Dobbs,
Deputy Associate Administrator.

[FR Doc. 2012-9168 Filed 4-16-12; 8:45 am]

BILLING CODE 6820-14-P